DEPARTMENT OF THE INTERIOR

Office of the Secretary

Notice of Proposed Information Collection

AGENCY: Office of the Secretary, Interior.

ACTION: Notice and request for comments.

SUMMARY: The proposal for the collection of information listed below has been submitted to the Office of Management and Budget for approval under the provisions of the Paperwork Reduction Act (44 U.S.C. Chapter 35). Copies of the proposed information collection requirement and related forms may be obtained by contacting the Office's Clearance Officer at the phone number listed below. Comments and suggestions on the requirement should be made directly to the Office of Management and Budget.

DATES: OMB has up to 60 days to approve or disapprove the information collections but may respond after 30 days. Therefore, public comments should be submitted to OMB by January 13, 2003, in order to be assured of consideration.

ADDRESSES: Office Information and Regulatory Affairs, Office of Management and Budget, Attention, Department of the Interior Desk Officer, 725 17th Street, NW, Washington, DC 20503. Also, please send a copy of your comments to John Moresko, Department of the Interior, 1849 C Street NW., MS-5512, Washington, DC 20240 or electronically to john_moresko@ios.doi.gov.

FOR FURTHER INFORMATION CONTACT: To request a copy of either information collection request, explanatory information and related forms, contact John Moresko at (202) 208-5704, or electronically to john_moresko@ios.doi.gov.

SUPPLEMENTARY INFORMATION: The Office of Management and Budget (OMB) regulations at 5 CFR 1320, which implement the Paperwork Reduction Act of 1995 (Pub. L. 104-13), require that interested members of the public and affected agencies have an opportunity to comment on information collection and recordkeeping activities (see 5 CFR 1320.8(d)). This notice identifies an information collection activity that the Office of the Secretary will be submitting to OMB for extension or re-approval.

Form DI-381 and Form DI-382 were created because of the amendments to the Uniform Relocation Assistance and Real Property Acquisition Policies Act of 1970 (Act) made by the Uniform Relocation Act Amendments of 1987, Title IV of the Surface Transportation and Uniform Relocation Assistance Act of 1987, Public Law 100-17.

The Office of the Secretary will request a 3-year term of approval for this information collection activity.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the Office of the Secretary's submission of the information collection request to OMB.

This notice provides the public with 60 days in which to comment on the following information collection activity:

Titles: Claim For Relocation Payments-Residential, Claim for Relocation Payments-Nonresidential.

OMB Approval Number: 1084-0010.

Summary: The information on the application will be used to determine the amount of money, if any, owed to persons or businesses displaced by Federal acquisition of their real property.

Bureau Form Number(s): DI-381, DI-382.

Frequency of Collection: On occasion.

Description of Respondents: Individuals and businesses who are displaced because of Federal acquisition of their real property.

Total Annual Responses: 200.

Total Annual Burden Hours: 88.

Dated: December 9, 2002.
Debra Sonderman,
Director, Office of Acquisition and Property Management.

[FR Doc. 02-31307 Filed 12-11-02; 8:45 am]

BILLING CODE 4310-RF-M